NUCLEAR REGULATORY COMMISSION

Withdrawal of Regulatory Guides

AGENCY: Nuclear Regulatory Commission.

ACTION: Withdrawal of Regulatory Guides 9.1, 9.2, and 9.3.

FOR FURTHER INFORMATION CONTACT: Marquis P. Orr, U.S. Nuclear Regulatory Commission, Washington, DC 20555-0001, telephone: 301-415-6373 or e-mail MPO1@nrc.gov.

SUPPLEMENTARY INFORMATION:

I. Introduction

The U.S. Nuclear Regulatory Commission (NRC) is withdrawing Regulatory Guide 9.1, “Regulatory Staff Position Statement on Antitrust Matters,” published December 1973; Regulatory Guide 9.2, “Information Needed by the NRC Staff in Connection with its Antitrust Review of Construction Permit Applications for Nuclear Power Plants,” initially published October 1974, and revised June 1976; and Regulatory Guide 9.3, “Information Needed by the AEC Regulatory Staff in Connection with its Antitrust Review of Operating License Applications for Nuclear Power Plants,” published October 1974. The NRC is withdrawing these three regulatory guides because they are no longer required.

These three regulatory guides address the antitrust review conducted by the staff during the evaluation of new plant construction and operating license applications. The review was required by Section 105.c of the Atomic Energy Act of 1954, as amended. Section 625 of the Energy Policy Act of 2005 (Pub. L. 109-058) removed the NRC's authority to perform these antitrust reviews for applications submitted after the date of enactment of the law. The Energy Policy Act of 2005 was passed by the U.S. Congress on July 29, 2005, and signed into law by President George W. Bush on August 8, 2005. Consequently, the staff has determined that Regulatory Guides 9.1, 9.2, and 9.3 are no longer required.

II. Further Information

The withdrawal of Regulatory Guides 9.1, 9.2, and 9.3 does not, in and of itself, alter any prior or existing licensing commitments based on their use. The guidance provided in these regulatory guides is no longer applicable. Regulatory guides may be withdrawn when their guidance is superseded by congressional action or otherwise no longer provides useful information.

Regulatory guides are available for inspection or downloading through the NRC's public Web site under “Regulatory Guides” in the NRC's Electronic Reading Room at http://www.nrc.gov/reading-rm/doc-collections. Regulatory guides are also available for inspection at the NRC's Public Document Room (PDR), Room O-1F21, One White Flint North, 11555 Rockville Pike, Rockville, Maryland 20852-2738. The PDR's mailing address is U.S. NRC PDR, Washington, DC 20555-0001. The PDR staff can be reached by telephone at 301-415-4737 or 800-397-4209, by fax at 301-415-3548, and by e-mail to pdr@nrc.gov.

Regulatory Guides are not copyrighted and NRC approval is not required to reproduce them.

Dated at Rockville, Maryland, this 12th day of October, 2007.
For the Nuclear Regulatory Commission.
Michael R. Johnson,
Deputy Director, Office of Nuclear Regulatory Research.

[FR Doc. E7-20730 Filed 10-19-07; 8:45 am]

BILLING CODE 7590-01-P